DEPARTMENT OF HEALTH AND HUMAN SERVICES

Office of the Secretary

[Document Identifier: HHS-OS-0990-0331-60D]

Agency Information Collection Activities; Proposed Collection; Public Comment Request

AGENCY: Office of the Secretary.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for revision of the approved information collection assigned OMB control number 0990-0331, which expires on August 31, 2015. Prior to submitting that ICR to OMB, OS seeks comments from the public regarding the burden estimate, below, or any other aspect of the ICR.

DATES: Comments on the ICR must be received on or before August 4, 2014.

FOR FURTHER INFORMATION CONTACT: OS Report Clearance Officer, Sherrette Funn, Sherrette.Funn@hhs.gov or (202) 690-6162.

SUPPLEMENTARY INFORMATION: When submitting comments or requesting information, please include the document identifier HHS-OS-0990-0331-60D for reference.

Information Collection Request Title: Evaluation of the Responsible Fatherhood, Marriage and Family Strengthening Grants for Incarcerated and Reentering Fathers and Their Partners.

Abstract: The Office of the Assistant Secretary for Planning and Evaluation (ASPE) is conducting an evaluation of a demonstration program called Responsible Fatherhood, Marriage and Family Strengthening Grants for Incarcerated and Reentering Fathers and Their Partners (MFS-IP). This demonstration program, funded in 2006 by the Office of Family Assistance within the Administration for Children and Families (ACF), supports marriage strengthening and responsible fatherhood activities among incarcerated and recently released fathers, their partners, and children. The MFS-IP evaluation assesses the effects of these activities by comparing relationship quality and stability, positive family interactions, family financial well-being, recidivism, and community connectedness between intervention and control groups.

Data collection for the entire evaluation is expected to last 7 years, from the time the first participant was enrolled in late 2008 until the last follow-back interview is administered in early 2015. The burden table estimate below, previously approved under OMB No. 0990-0331, includes sufficient burden hours to cover completion of the 9-month, 18-month, and 34 month surveys and for the follow-back interviews. The focus of this proposed amendment is approval for the qualitative follow-back interviews for a small group of respondents (up to 50 couples) from the cohort of 34 month interview respondents.

Need and Proposed Use of the Information: Primary data for the evaluation comes from in-person surveys with incarcerated and released fathers and their partners at baseline, 9, 18, and 34 month interviews and follow-back interviews on a purposeful subsample of 34 month interviewees. The qualitative information from the follow-back interviews will enable us to better understand how reentry success and family well-being are interrelated for the survey population, inform future research and evaluation with this population (particularly development and selection of appropriate quantitative measures of family relationship quality), and better identify meaningful leverage points for reentry intervention. This additional information will assist Federal, state, and community policymakers and stakeholders in understanding what policy and programmatic supports could help to strengthen families and improve reentry outcomes in this population.

Likely Respondents: Up to 50 couples from the MFS-IP impact study sample, which includes 1,991 fathers incarcerated at the time of the baseline survey and 1,481 of their female partners.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

Annual Burden Estimates
Forms | Annualized number of respondents | Number of responses per respondent | Average burden (in hours) per response | Total annualized burden | Hourly wage rate | Total annualized hourly cost
MFS-IP Follow-up Survey—Male (9 & 18 month) | 321 | 1 | 1.5 | 481.5 | $5.85 | $2816.78
MFS-IP Follow-up Survey—Female (9 & 18 month) | 488.3 | 1 | 1.5 | 732.5 | 17.17 | 12577.03
MFS-IP Follow-up Survey—Male (34 month and follow-back) | 462.7 | 1 | 1.5 | 694 | 5.85 | 4059.90
MFS-IP Follow-up Survey—Female (34 month and follow-back) | 462.7 | 1 | 1.5 | 694 | 17.17 | 11915.98
Totals |  |  |  | 2602 |  | 31369.69

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-12850 Filed 6-3-14; 8:45 am]

BILLING CODE 4150-05-P